DEPARTMENT OF THE INTERIOR

[2253-665]

National Park Service

Notice of Inventory Completion: Tennessee Valley Authority and the University of Tennessee McClung Museum, Knoxville, TN

AGENCY: National Park Service, Interior.

ACTION: Notice.

SUMMARY: The Tennessee Valley Authority (TVA) and the University of Tennessee McClung Museum (McClung Museum) have completed an inventory of human remains in consultation with the appropriate Indian tribes, and have determined that there is a cultural affiliation between the human remains and present-day Indian tribes. Representatives of any Indian tribe that believes itself to be culturally affiliated with the human remains may contact the TVA and McClung Museum. Repatriation of the human remains to the Indian tribes stated below may occur if no additional claimants come forward.

DATES: Representatives of any Indian tribe that believes it has a cultural affiliation with the human remains should contact the TVA and McClung Museum at the address below by December 29, 2011.

ADDRESSES: Dr. Thomas O. Maher, TVA, 400 West Summit Hill Drive, WT 11D, Knoxville, TN 37902-1401, telephone (865) 632-7458.

SUPPLEMENTARY INFORMATION: Notice is here given in accordance with the Native American Graves Protection and Repatriation Act (NAGPRA), 25 U.S.C. 3003, of the completion of an inventory of human remains in the custody of the McClung Museum and control of TVA, Knoxville, TN. The human remains were removed from the Toqua site (40MR6) and the Citico site (40MR7) in Monroe County, TN as a result of the construction of the Tellico Reservoir.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the TVA and McClung Museum professional staff in consultation with representatives of the Cherokee Nation, Oklahoma; Chickasaw Nation, Oklahoma; Eastern Band of Cherokee Indians of North Carolina; Eastern Shawnee Tribe of Oklahoma; Muscogee (Creek) Nation, Oklahoma; Thlopthlocco Tribal Town, Oklahoma; and the United Keetoowah Band of Cherokee Indians in Oklahoma.

History and Description of the Remains

In 1976, human remains representing a minimum of one individual were removed from the Toqua site (40MR6) in Monroe County, TN. The burial (#96) intruded from an upper, historic level into Mound A at the site. The remains have been curated at the McClung Museum since excavation. No known individuals were identified. No associated funerary objects are present.

Toqua was a known Overhill Cherokee village noted on the 1762 map made by Lt. Henry Timberlake after his visit to the lower Little Tennessee River. Both historical and archeological research indicate that a historic Cherokee occupation overlaps a prehistoric Native American occupation at this location. The stratigraphic location and orientation of these human remains resemble other historic Cherokee graves at the site.

In November 1967, human remains representing a minimum of one individual were removed from the Citico site (40MR7) in Monroe County, TN (burial #12). The remains have been curated at the McClung Museum since excavation. No known individuals were identified. Although excavation forms indicate that white tubular glass beads were associated with the burial, these objects are currently missing.

Citico was a known Overhill Cherokee village noted on the 1762 map made by Lt. Henry Timberlake after his visit to the lower Little Tennessee River. Both historical and archeological research indicate that a historic Cherokee occupation overlaps a prehistoric Native American occupation at this location. The location of these human remains and the documentary evidence of associated glass beads indicate that these were historic Cherokee graves.

Determinations Made by the TVA and McClung Museum

Officials of the TVA and McClung Museum have determined that:

• Pursuant to 25 U.S.C. 3001(9), the human remains described in this notice represent the physical remains of two individuals of Native American ancestry.

• Pursuant to 25 U.S.C. 3001(2), there is a relationship of shared group identity that can be reasonably traced between the Native American human remains to the Cherokee Nation, Oklakoma; Eastern Band of Cherokee Indians of North Carolina; and the United Keetoowah Band of Cherokee Indians in Oklahoma (hereinafter referred to as “The Tribes”).

Additional Requestors and Disposition

Representatives of any Indian tribe that believes itself to be culturally affiliated with the human remains should contact Dr. Thomas O. Maher, TVA, 400 West Summit Hill Drive, WT 11D, Knoxville, TN 37902-1401, telephone (865) 632-7458 before December 29, 2011. Repatriation of the human remains to The Tribes may proceed after that date if no additional claimants come forward.

The TVA is responsible for notifying The Tribes that this notice has been published.

Dated: November 22, 2011.
Sherry Hutt,
Manager, National NAGPRA Program.

[FR Doc. 2011-30617 Filed 11-28-11; 8:45 am]

BILLING CODE 4312-50-P